DEPARTMENT OF COMMERCE

National Oceanic and Atmospheric Administration

RIN 0648-XV15

Marine Mammals; File No. 14802

AGENCY: National Marine Fisheries Service (NMFS), National Oceanic and Atmospheric Administration (NOAA), Commerce.

ACTION: Notice; issuance of permit.

SUMMARY: Notice is hereby given that the Oregon Coast Aquarium, 2820 S.E. Ferry Slip Road, Newport, OR 97365, has been issued a permit to import up to eight non-releasable harbor seals (Phoca vitulina) for the purposes of public display.

ADDRESSES: The permit and related documents are available for review upon written request or by appointment in the following office(s):

Permits, Conservation and Education Division, Office of Protected Resources, NMFS, 1315 East-West Highway, Room 13705, Silver Spring, MD 20910; phone (301) 713-2289; fax (301) 713-0376; and

Northwest Region, NMFS, 7600 Sand Point Way NE, BIN C15700, Bldg. 1, Seattle, WA 98115-0700; phone (206) 526-6150; fax (206) 526-6426.

FOR FURTHER INFORMATION CONTACT: Jennifer Skidmore or Kristy Beard, (301) 713-2289.

SUPPLEMENTARY INFORMATION: On October 8, 2009, notice was published in the Federal Register (74 FR 51836) that a request for a public display permit to import up to eight non-releasable harbor seals (Phoca vitulina; two male, six females) from the Vancouver Aquarium Science Center, Vancouver, British Columbia, Canada to the Oregon Coast Aquarium, had been submitted by the above-named organization. The requested permit has been issued under the authority of the Marine Mammal Protection Act of 1972, as amended (16 U.S.C. 1361 et seq.), the regulations governing the taking and importing of marine mammals (50 CFR part 216).

In compliance with the National Environmental Policy Act of 1969 (42 U.S.C. 4321 et seq.), a final determination has been made that the activity proposed is categorically excluded from the requirement to prepare an environmental assessment or environmental impact statement.

Dated: March 11, 2010.
Tammy C. Adams,
Acting Chief, Permits, Conservation and Education Division, Office of Protected Resources, National Marine Fisheries Service.

[FR Doc. 2010-5836 Filed 3-16-10; 8:45 am]

BILLING CODE 3510-22-S